DEPARTMENT OF THE INTERIOR

Bureau of Indian Affairs

[234A2100DD/AAKC001030/A0A501010.999900]

Land Acquisitions; Buena Vista Rancheria of Me-Wuk Indians of California

AGENCY: Bureau of Indian Affairs, Interior.

ACTION: Notice.

SUMMARY: The Assistant Secretary—Indian Affairs has made a final agency determination to acquire 81 acres, more or less, into trust for the Buena Vista Rancheria of Me-Wuk Indians of California.

DATES: This final determination was made on February 3, 2023.

FOR FURTHER INFORMATION CONTACT: Amy Dutschke, Regional Director, Office Indian Affairs Bureau of Indian Affairs, Pacific Region, 2800 Cottage Way, Room W-2820, Sacramento, CA 95825, comments@bia.gov, (916) 978-6000.

SUPPLEMENTARY INFORMATION: On the date listed in the DATES section of this notice, the Assistant Secretary—Indian Affairs issued a decision to accept land in trust for the Buena Vista Rancheria of Me-Wuk Indians of California under the authority of Section 5 of the Indian Reorganization Act of 1934 (48 Stat. 984). The land referred to herein, consisting of 81 acres, more or less, is in the unincorporated area of Ione, County of Amador, State of California, described as follows:

Legal Description of Property

Parcel No. 1: Adjusted Parcel 2, as shown on “Record of Survey Boundary Line Adjustment for Buffalo Stop” filed for record April 23, 1993, in Book 47 of Maps at Page 44.

Parcel No. 2: That 50 feet wide access and public utility easement as shown on said Boundary Line Adjustment Map.

Authority

This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

Bryan Newland,
Assistant Secretary—Indian Affairs.

[FR Doc. 2023-02851 Filed 2-9-23; 8:45 am]

BILLING CODE 4337-15-P